DEPARTMENT OF COMMERCE

National Oceanic and Atmospheric Administration

50 CFR Part 622

[I.D. 080502E]

Fisheries of the Caribbean, Gulf of Mexico, and South Atlantic; Proposed Amendment 13 to the Fishery Management Plan (FMP) for the Shrimp Fishery of the Gulf of Mexico; Scoping Meetings

AGENCY: National Marine Fisheries Service (NMFS), National Oceanic and Atmospheric Administration (NOAA), Commerce.

ACTION: Notice of intent to prepare a draft supplemental environmental impact statement (DSEIS) and notice of scoping meetings; request for comments.

SUMMARY: The Gulf of Mexico Fishery Management Council (Council) intends to prepare a DSEIS to describe and analyze management alternatives associated with proposed Amendment 13 to the FMP for the Shrimp Fishery of the Gulf of Mexico.

Amendment 13 would establish stock status determination criteria for managed shrimp stocks in the Gulf. The Amendment may also include, but would not be limited to, alternatives related to adding rock shrimp to the management unit of the shrimp FMP, requiring endorsements for vessels harvesting rock shrimp and royal red shrimp in the exclusive economic zone (EEZ) of the Gulf of Mexico, requiring vessel monitoring systems (VMS) aboard shrimp trawl vessels fishing in or transiting all or some portions of the Gulf of Mexico EEZ, improving bycatch reporting, and further reducing bycatch in the shrimp fishery.

The purpose of this notice of intent is to solicit public comments on the scope of issues to be addressed in the DSEIS, which will be submitted to NMFS for filing with the Environmental Protection Agency (EPA) for publication of a notice of availability for public comment.

DATES: Written comments on the scope of issues to be addressed in the DSEIS must be received by the Council by September 18, 2002. A series of scoping meetings will be held late August through early October 2002. See SUPPLEMENTARY INFORMATION for specific dates and times.

ADDRESSES: Written comments on the scope of the DSEIS and requests for additional information on proposed Amendment 13 should be sent to the Gulf of Mexico Fishery Management Council, The Commons at Rivergate, 3018 U.S. Highway 301 North, Suite 1000, Tampa, Florida 33619; telephone: 813-228-2815; fax: 813-225-7015. Comments may also be sent by e-mail to Rick.Leard@gulfcouncil.org.

Eight scoping meetings will be held throughout the Gulf, in the states of Texas, Louisiana, Mississippi, Alabama and Florida. See SUPPLEMENTARY INFORMATION for the specific locations, dates, and times of those meetings.

FOR FURTHER INFORMATION CONTACT: Dr. Richard Leard; phone: 813-228-2815; fax: 813-225-7015; e-mail: Rick.Leard@gulfcouncil.org or Dr. Steve Branstetter; phone: 727-570-5305; fax: 727-570-5583; e-mail: Steve.Branstetter@noaa.gov.

SUPPLEMENTARY INFORMATION: The Magnuson-Stevens Fishery Conservation and Management Act (Magnuson-Stevens Act) requires the Council to establish stock status determination criteria for all managed stocks. The Council submitted proxy definitions for these parameters as part of its Generic Sustainable Fisheries Act Amendment in 1999. However, NMFS approved only the definitions of the overfished conditions. Consequently, through proposed Amendment 13, the Council would revise the remaining stock status determination criteria for managed shrimp stocks in the Gulf of Mexico.

The Council has established some relatively large permanently and seasonally closed areas to shrimp trawling, namely the Tortugas Shrimp Sanctuary and the cooperative Texas Closure. To enhance enforcement of these closures and with the intent to collect better effort data from the shrimp fishery, the Council may also consider through Amendment 13, requiring the use of VMS on shrimp vessels in at least some portion of the EEZ during some closure period.

Section 303 (a)(11) of the Magnuson-Stevens Act requires the Council to establish a standardized bycatch reporting methodology to determine the type and amount of bycatch occurring in the shrimp fishery. The Council has proposed such a methodology under Amendment 10 to the FMP for the Shrimp Fishery of the Gulf of Mexico. However, through Amendment 13, the Council may consider ways to improve that reporting methodology. Amendment 13 may also consider additional measures to reduce bycatch in the shrimp fishery to the extent practicable and to reduce the mortality of bycatch that cannot be avoided, as required by Section 303 (a)(11) of the Magnuson-Stevens Act.

Other management alternatives that may be considered in Amendment 13 include adding rock shrimp to the management unit of the shrimp FMP, and requiring endorsements for vessels harvesting rock shrimp and royal red shrimp in the EEZ of the Gulf of Mexico.

The Council will develop a DSEIS to describe and analyze management alternatives considered in proposed Amendment 13. In addition to the management measures described above, the DSEIS will evaluate, as needed, additional management measures to address problems or issues that are identified during the scoping process.

Written comments on the range of alternatives and scope of issues to be addressed in the DSEIS may be sent to the Council (see ADDRESSES). The Council has scheduled the following eight scoping meetings to provide the opportunity for additional public input:

1. Monday, August 26, 2002: Four Points Sheraton, 3777 North Expressway, Brownsville, TX; telephone: 956-547-1500;

2. Tuesday, August 27, 2002: Palacios Recreation Center, 2401 Perryman, Palacios, TX; telephone: 361-972-2387;

3. Wednesday, August 28, 2002: San Luis Resort, 5222 Seawall Boulevard, Galveston Island, TX; telephone: 409-744-1500;

4. Monday, September 23, 2002: New Orleans Airport Hilton, 901 Airline Highway, Kenner, LA; telephone: 504-469-5000;

5. Tuesday, September 24, 2002: Isle of Capri Casino Hotel, 151 Beach Boulevard, Biloxi, MS; telephone: 228-436-8720;

6. Wednesday, September 25, 2002: Adams Mark Hotel, 64 South Water Street, Mobile, AL; telephone: 251-438-4000;

7. Tuesday, October 1, 2002: Franklin County Courthouse, 33 Market Street, Apalachicola, FL; telephone: 850-653-8861; and

8. Wednesday, October 2, 2002: Tampa Airport Hilton, 2225 Lois Avenue, Tampa, FL; telephone: 813-877-6688.

All scoping meetings will begin at 6 pm. The first portion of each meeting will be allocated to taking public comments on proposed Amendment 13. Immediately following the conclusion of public comments on Amendment 13, the Council will take public comments on the DSEIS being developed to support the Draft Red Snapper Rebuilding Amendment. The notice of intent for that action can be found at Notice I.D. 080502D published in the Notices section of this issue of the Federal Register, and contains information on the scope of issues and alternatives that will be considered in the Draft Red Snapper Rebuilding Amendment, which will establish a red snapper rebuilding plan based on biomass-based stock rebuilding targets and thresholds.

All meetings will be physically accessible to people with disabilities. Requests for sign language interpretation or other auxiliary aids should be directed to Dr. Richard Leard at the Council (see ADDRESSES).

Once the Council completes the DSEIS associated with Amendment 13, it will submit the document to NMFS for filing with the EPA. The EPA will publish a notice of availability of the DSEIS for public comment in the Federal Register. The DSEIS will have a 45-day comment period. This procedure is pursuant to regulations issued by the Council on Environmental Quality (CEQ) for implementing the procedural provisions of the National Environmental Policy Act (NEPA; 40 CFR parts 1500-1508) and to NOAA's Administrative Order 216-6 regarding NOAA's compliance with NEPA and the CEQ regulations.

The Council will consider public comments received on the DSEIS in developing the final supplemental environmental impact statement (FSEIS) and before adopting final management measures for Amendment 13. The Council will submit both the final Amendment and the supporting FSEIS to NMFS for Secretarial review, approval, and implementation under the Magnuson-Stevens Act.

NMFS will announce, through a notice published in the Federal Register, the availability of the final Amendment 13 for public review during the Secretarial review period. During Secretarial review, the NMFS will also file the FSEIS with the EPA for a final 30-day public comment period. This comment period will be concurrent with the Secretarial review period and will end prior to final agency action to approve, disapprove, or partially approve Amendment 13.

NMFS will announce, through a notice published in the Federal Register, all public comment periods on the final Amendment 13, its proposed implementing regulations, and its associated FSEIS. NMFS will consider all public comments received during the Secretarial review period, whether they are on the final Amendment, the proposed regulations, or the FSEIS, prior to final agency action.

Dated: August 14, 2002.
Virginia M. Fay,
Acting Director, Office of Sustainable Fisheries, National Marine Fisheries Service.

[FR Doc. 02-21023 Filed 8-16-02; 8:45 am]

BILLING CODE 3510-22-S